DEPARTMENT OF ENERGY

Federal Energy Regulatory Commission

[Docket No. CP18-116-000]

Texas Gas Transmission, LLC; Notice of Request for Extension of Time

Take notice that on April 12, 2021, Texas Gas Transmission, LLC (Texas Gas) requested that the Federal Energy Regulatory Commission (Commission) grant an extension of time until June 26, 2023 to complete abandonment activities for the North Lake Pagie/Bay Junop-Bay Round Project (Project) located in Terrebonne Parish, Louisiana, as authorized in the Order Approving Abandonment (Order) on June 26, 2018.¹ Ordering Paragraph (B) of the Order required Texas Gas to complete abandonment of the Project within one year of the date of the order, until and including June 26, 2019, which was previously extended as discussed below.

¹ Texas Gas Transmission, LLC, 163 FERC 62,218 (2018).

On June 5, 2019, Texas Gas filed a request for an extension of time for an additional eighteen months to complete abandonment activities. Texas Gas was granted a one-year extension of time, until and including June 26, 2020, to complete abandonment activities authorized in the above referenced docket.

On May 26, 2020, Texas Gas filed a second request for extension of time for an additional year to complete abandonment activities. Texas Gas was granted a one-year extension of time, until and including June 26, 2021, to complete abandonment activities authorized in the above referenced docket.

On April 12, 2021, Texas Gas filed this request for extension of time for an additional two years to complete abandonment activities. Texas Gas request to extend its current authorization again to allow time to continue working through landowner/agency issues and obtain the outstanding environmental permit to abandon the North Lake Pagie/Bay Junop-Bay Round pipeline. Texas Gas states that the Project's environmental findings remain valid as no agency has made any change, nor has any change occurred to the Project, that would affect the environment to an extent not already considered by the June 26 Order, by the Project's Environmental Assessment issued on June 13, 2018, or by the confirmed biological opinions of environmental agencies. Thus, Texas Gas believes it can come to agreeable terms for abandonment with the relevant landowner/agency parties and therefore asserts that `good cause' exists to grant an extension of time, until June 26, 2023

This notice establishes a 15-calendar day intervention and comment period deadline. Any person wishing to comment on Transco's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the Order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on those extension requests that are uncontested.

³ Contested proceedings are those where an intervenor disputes any material issue of the filing. 18 CFR 385.2201(c)(1) (2020).

⁴ Algonquin Gas Transmission, LLC, 170 FERC 61,144, at P 40 (2020).

⁵ Id. P 40.

⁶ Similarly, the Commission will not re-litigate the issuance of an NGA section 3 authorization, including whether a proposed project is not inconsistent with the public interest and whether the Commission's environmental analysis for the permit order complied with NEPA.

⁷ Algonquin Gas Transmission, LLC, 170 FERC 61,144, at P 40 (2020).

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission. To mail via USPS, use the following address: Kimberly D. Bose, Secretary, Federal Energy Regulatory Commission, 888 First Street NE, Washington, DC 20426. To mail via any other courier, use the following address: Kimberly D. Bose, Secretary, Federal Energy Regulatory Commission, 12225 Wilkins Avenue, Rockville, Maryland 20852.

Comment Date: 5:00 p.m. Eastern Time on May 10, 2021.

Dated: April 19, 2021.
Kimberly D. Bose,
Secretary.

[FR Doc. 2021-08519 Filed 4-22-21; 8:45 am]

BILLING CODE 6717-01-P